DEPARTMENT OF COMMERCE

National Oceanic and Atmospheric Administration

50 CFR Part 660

[Docket No. 090428799-9802-01]

RIN 0648-BA44

Magnuson-Stevens Act Provisions; Fisheries Off West Coast States; Pacific Coast Groundfish Fishery; Inseason Adjustments to Fishery Management Measures

AGENCY: National Marine Fisheries Service, National Oceanic and Atmospheric Administration, Commerce.

ACTION: Final rule; inseason adjustments to biennial groundfish management measures; request for comments.

SUMMARY: This final rule makes inseason adjustments to commercial and tribal fishery management measures for several groundfish species taken in the U.S. exclusive economic zone (EEZ) off the coasts of Washington, Oregon, and California. These actions, which are authorized by the Pacific Coast Groundfish Fishery Management Plan (FMP), are intended to allow fisheries to access more abundant groundfish stocks while protecting overfished and depleted stocks.

DATES: Effective 0001 hours (local time) December 1, 2010. Comments on this final rule must be received no later than 5 p.m., local time on January 3, 2011.

ADDRESSES: You may submit comments, identified by RIN 0648-BA44, by any one of the following methods:

• Electronic Submissions: Submit all electronic public comments via the Federal eRulemaking Portal: http://www.regulations.gov.

• Fax: 206-526-6736, Attn: Gretchen Hanshew.

• Mail: William W. Stelle, Jr., Regional Administrator, Northwest Region, NMFS, 7600 Sand Point Way, NE., Seattle, WA 98115-0070, Attn: Gretchen Hanshew.

Instructions: No comments will be posted for public viewing until after the comment period has closed. All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Gretchen Hanshew (Northwest Region, NMFS), 206-526-6147, fax: 206-526-6736, gretchen.hanshew@noaa.gov.

SUPPLEMENTARY INFORMATION:

Electronic Access

This final rule is accessible via the Internet at the Office of the Federal Register's Web site at http://www.gpoaccess.gov/fr/index.html. Background information and documents are available at the Pacific Fishery Management Council's (the Council or PFMC) Web site at http://www.pcouncil.org/.

Background

On December 31, 2008, NMFS published a proposed rule to implement the 2009-2010 specifications and management measures for the Pacific Coast groundfish fishery (73 FR 80516). The final rule to implement the 2009-2010 specifications and management measures for the Pacific Coast Groundfish Fishery was published on March 6, 2009 (74 FR 9874). This final rule was subsequently amended by inseason actions on April 27, 2009 (74 FR 19011), July 6, 2009 (74 FR 31874), October 28, 2009 (74 FR 55468), February 26, 2010 (75 FR 8820), May 4, 2010 (75 FR 23620), July 1, 2010 (75 FR 38030), July 16, 2010 (75 FR 41386), August 23, 2010 (75 FR 51684); and October 4, 2010 (75 FR 61102). Additional changes to the 2009-2010 specifications and management measures for petrale sole were made in two final rules: On November 4, 2009 (74 FR 57117), and December 10, 2009 (74 FR 65480). NMFS issued a final rule in response to a duly issued court order on July 8, 2010 (75 FR 39178). NMFS also issued a final rule to implement Amendments 20 and 21 to the Pacific Coast Groundfish Fishery Management Plan (FMP) on October 1, 2010 (75 FR 60868). The October 1, 2010 final rule, in part, re-organized the entire Pacific Coast Groundfish Fishery Regulations. Because of the restructuring, beginning on November 1, 2010, these specifications and management measures are at 50 CFR part 660, subparts C through G.

Changes to the groundfish management measures implemented by this action were recommended by the Council, in consultation with Pacific Coast Treaty Indian Tribes and the States of Washington, Oregon, and California, at its November 2-10, 2010, meeting in Costa Mesa, CA. The Council recommended adjusting the groundfish management measures to respond to updated fishery information and other inseason management needs. These changes include: Expansion of the trawl Rockfish Conservation Area (RCA) and a closure of the minor slope rockfish and darkblotched rockfish fishing in the limited entry trawl commercial fisheries off Washington, Oregon, and northern California (north of 40°10′ N. lat.); reductions to sector specific bycatch limits of darkblotched rockfish for all sectors of the primary Pacific whiting fishery; reductions to daily trip limits (DTL) for sablefish in the limited entry fixed gear fishery south of 36° N. lat. and a closure of the open access commercial fisheries for sablefish in that same area; increases to sablefish DTL limits in the limited entry fixed gear and open access commercial fisheries north of 36° N. lat.; and changes to the Makah tribal midwater trawl fishery management measures.

Limited Entry Trawl Fishery

At their November 2-10, 2010, meeting, the Council received new data and analyses on the catch of groundfish in the limited entry non-whiting trawl fishery. As described below, the Council considered inseason actions to reduce the mortality of darkblotched rockfish in the limited entry non-whiting trawl fishery and the limited entry primary season whiting fishery, the fisheries in which most darkblotched rockfish are taken. Cumulative limit fishing Period 6, November-December, was already underway by the Council's November meeting. Because the new information was available so late in the year, making inseason changes to fishing regulations as quickly as possible can only affect the last 4-5 weeks of the year.

The Council uses a model to predict annual groundfish mortality in the limited entry non-whiting trawl fishery. At the November 2010 meeting, the Groundfish Management Team (GMT), an advisory body to the Council, determined that the model was underestimating the mortality of darkblotched rockfish. The model uses historical data, weighted more heavily towards the most recent year, to predict how current management measures will affect the mortality of groundfish species. The model has limited ability to account for recent, large-scale shifts in fishing effort and target catch species composition for use in its projection of bycatch species' total mortality.

Instead of relying solely on the model projections, which were by then understood to be too low for darkblotched rockfish, the GMT made an adjustment to the model to produce a better estimate of the mortality of darkblotched rockfish through the end of 2010. The GMT used the best inseason estimates of landings of darkblotched rockfish, through October 2010, to project what the darkblotched rockfish landings may be through the rest of the year. An assumption was also made about the discard rate (assumed to be 50 percent of the darkblotched total mortality, a 5-year average, weighted toward the most recent data) to estimate how much darkblotched rockfish was discarded in 2010, and that discard mortality estimate was added to the landed mortality estimate to produce an estimate of total mortality of darkblotched rockfish through the end of the year. Using the adjusted projection, the GMT projected that 335 mt of darkblotched rockfish would be caught in the limited entry non-whiting trawl fishery, through the end of the year, if no action were taken to reduce impacts. This level of mortality in the limited entry non-whiting trawl fishery, combined with projected impacts to darkblotched rockfish from all other fisheries, would exceed the 2010 darkblotched rockfish OY of 330 mt by 53 mt, or approximately 16 percent.

Darkblotched rockfish total mortality is highly variable, largely due to the high variability in the discard rate and its sensitivity to area closures and slope rockfish trip limits. Because the adjusted projection of darkblotched rockfish mortality assumed a discard rate, which is known to be highly variable, the point estimate of the total mortality for darkblotched rockfish in the limited entry non-whiting trawl fishery is highly uncertain. If the actual 2010 trawl discard rate is lower than assumed, total mortality, which includes mortality estimates from all other sources, of darkblotched rockfish could actually be well below the 2010 OY. If the actual 2010 discard rate is higher than assumed, total mortality of darkblotched rockfish could actually be higher than projected. However, NMFS anticipates that the assumed bycatch rate of 50 percent may be higher than the actual discard rate for early 2010 because landings were very high from January-April, when there was a large trip limit in place. It is very likely that, with the high landings early in the year, discards during this time were much lower than 50 percent. If that is the case, the adjusted projection that resulted in a projected impact of 335 mt of darkblotched rockfish is more likely to be an overestimate.

The Council considered and recommended expanding the northern trawl RCA seaward as soon as possible after their November meeting, for the remainder of 2010, in order to close areas where darkblotched rockfish are encountered, and to therefore lower impacts to darkblotched rockfish. The Council also considered and recommended reductions to the trip limits for “minor slope rockfish and darkblotched rockfish” to lower the landings of darkblotched rockfish through the end of the year. These changes to management measures are intended reduce the total mortality of darkblotched rockfish. Using the adjusted projection, assuming a 50 percent discard rate, the GMT projected 298 mt of darkblotched rockfish mortality in the limited entry non-whiting trawl fishery through the end of the year if the RCA was expanded and the trip limits were “closed” on December 1, 2011. Reducing a two-month limit in the middle of the period has limited effectiveness, because many vessels may have already taken their full limit, and others could swiftly take theirs before the recommended reduction can be implemented. Nonetheless, the trip limits for slope and darkblotched rockfish are being reduced to zero, as of December 1, 2010. Because the new fishery information and analyses were available so late in the year, the options for restrictions to fishery management measures that would reduce darkblotched rockfish impacts are limited. However, the restrictions proposed for the last 4-5 weeks of the year in the limited entry non-whiting trawl fishery are anticipated to reduce the projected total impacts to darkblotched rockfish by approximately 37 mt.

The Council did not recommend changes to management measures in the limited entry non-whiting trawl fishery south of 40°10′ N. lat. to reduce impacts to darkblotched rockfish. This is because only a very small amount of darkblotched rockfish are encountered in the limited entry non-whiting trawl fishery south of 40°10′ N. lat., and even drastic restrictions were not projected to reduce impacts by an appreciable amount.

Based on the considerations outlined above, the Council recommended and NMFS is implementing the following changes to the trawl RCA and cumulative limits in the limited entry non-whiting trawl fishery North of 40°10′ N. lat.: Modify the November-December 2010 bi-monthly cumulative limit from “4,000 lb per two months” to “4,000 lb per month” for the month of November only, effective on December 1, 2010; decrease the minor slope rockfish and darkblotched rockfish bi-monthly cumulative limit in December to “CLOSED” beginning on December 1, 2010 through the end of the year; and shift the seaward boundary of the trawl RCA from “the boundary line approximating the 200 fm depth contour and modified to allow fishing for petrale sole” to “the boundary line approximating the 250 fm depth contour” beginning on December 1, 2010 through the end of the year.

The Council also considered restrictions in the limited entry Pacific whiting midwater trawl fishery to reduce the potential harvest of darkblotched rockfish at the end of the year. The Pacific whiting fishery is managed with sector specific bycatch limits for several species, one of which is darkblotched rockfish. Several thousand metric tons of Pacific whiting have yet to be harvested in this fishery through the end of the year. Historical information and anecdotal testimony indicate that darkblotched bycatch in the whiting fishery is lower later in the year. Therefore, there is a considerable amount of the darkblotched rockfish bycatch limits that will likely go unharvested. The most recent fishery information, available on November 4, 2010, indicated that: The catcher/processor sector had taken only 2.3 mt of their 8.5 mt darkblotched rockfish bycatch limit, had 17 percent of their whiting allocation remaining to be harvested, and was continuing to fish; the mothership sector had taken 5.5 mt of their 6.0 mt darkblotched rockfish bycatch limit, had only 2,000 mt of their whiting allocation remaining, and was unlikely to harvest this remaining amount; and the shorebased sector had taken only 4.0 mt of their 10.5 mt darkblotched rockfish bycatch limit, had 17 percent left of their whiting allocation, and it was likely that only a few vessels would continue to fish for whiting. Fishers in the Pacific whiting fishery informed the Council that it was their intent to fish deeper than 170 fm, which is beyond the area in which the majority of darkblotched are encountered, to help ensure that darkblotched catch would remain much lower than their bycatch limits. The Council considered reductions to the sector specific bycatch limits for darkblotched rockfish that would reduce the remaining potential impacts in the primary whiting fishery, while still allowing the fishery to harvest their remaining allocations of Pacific whiting

Based on the considerations outlined above, the Council recommended and NMFS is implementing the following changes to the sector specific bycatch limits for darkblotched rockfish in the limited entry Pacific whiting midwater trawl fishery, beginning on December 1: Reduce the darkblotched rockfish bycatch limit for the catcher/processor sector from 8.5 mt to 5.5 mt (of which 2.3 mt had already be taken); reduce the darkblotched rockfish bycatch limit for the mothership sector from 6.0 mt to 5.5 mt (which had already been taken); and reduce the darkblotched rockfish bycatch limit for the shorebased sector from 10.5 mt to 5.0 mt (of which 4.0 mt had already been taken). It appears that 4.2 mt of darkblotched rockfish was available for harvest in this fishery as of November 1, 2010, through the end of the year, some of which may already be taken before this action is effective.

With the changes to fishery management measures described above, the total projected impacts to darkblotched rockfish through the end of the year is 337 mt, which exceeds the 2010 darkblotched rockfish OY of 330 mt by 7 mt, or approximately 2 percent. The projected impact of 337 mt includes 298 mt from the limited entry non-whiting trawl fishery and also assumes that all sectors of the Pacific whiting fishery will catch their entire revised sector specific darkblotched rockfish bycatch limits (that is, the 4.2 mt was available for harvest in this fishery as of November 1, 2010, through the end of the year). As described above, the adjusted projection for the limited entry non-whiting trawl fishery are highly uncertain and is likely to be an overestimate of impacts. In addition, it is unlikely that the catcher processor and shorebased sectors will catch their entire sector specific bycatch limits of darkblotched rockfish this year. Based on these considerations, and with the restrictions to the limited entry trawl fishery and the precautionary measures that the Pacific whiting fishers will take to avoid bycatch of darkblotched rockfish, it is probable that the actual total mortality of darkblotched rockfish will be kept below the 2010 OY of 330 mt. The most accurate 2010 discard rate of darkblotched rockfish in the non-whiting trawl fishery, and the total mortality of darkblotched rockfish in the entire groundfish fishery, will only be known after the west coast groundfish observer program publishes the 2010 total mortality report, between July 2011 and January 2012.

Sablefish Daily Trip Limit Fishery North of 36° N. Lat.

The Council considered increases to sablefish trip limits for the Limited Entry and Open Access Daily Trip Limit (DTL) fisheries north of 36° N. lat. at their June and September 2010 meetings. Trip limits were modestly increased for the Limited Entry DTL fishery after the June 2010 meeting because that fishery was tracking lower than anticipated. Changes to management measures were not recommended for either sector at the September 2010 meeting because available information indicated that catches were tracking similar to anticipated levels for the limited entry fixed gear fishery, and there was a possibility of effort shifts from south to north of 36° N. latitude due to trip-limit reductions to sablefish in the south. Catch of sablefish in the limited entry fixed gear and open access daily trip limit (DTL) fisheries north of 36° N. lat. are anticipated to be below their allocations. Based on the most recent fishery information, if no action is taken and catch remains lower than expected, landings of sablefish through the end of the year would be: 281 mt, or 88 percent of the limited entry fixed gear sablefish DTL fishery allocation of 321 mt; and 435 mt, or 82 percent of the open access fishery sablefish allocation of 529 mt. The Council considered options for trip limit increases in the limited entry fixed gear and open access sablefish DTL fisheries north of 36° N. lat. to allow these fisheries to attain a higher proportion of their sablefish allocations, while keeping total projected catch below the 2010 sablefish OY for the area north of 36° N. lat.

Projected impacts to overfished species in the limited entry fixed gear and open access fisheries are calculated assuming the entire sablefish OY is harvested. Therefore, increases to trip limits to allow additional fishing opportunities do not result in changes to projected impacts to co-occurring overfished groundfish species. The total projected impacts to darkblotched rockfish in the limited entry fixed gear and open access fisheries are very low.

Based on the considerations outlined above, the Council recommended and NMFS is implementing a modest increase in the limited entry fixed gear sablefish DTL fishery weekly limits north of 36° N. lat. from “1,750 lb per week, not to exceed 8,000 lb per two months” to “2,000 lb per week, not to exceed 8,000 lb per two months” beginning on December 1, 2010 through the end of the year.

Based on the considerations outlined above, the Council recommended and NMFS is implementing increases to the open access sablefish DTL fishery trip limits north of 36° N. lat. from “300 lb per day, or 1 landing per week of up to 950 lb, not to exceed 2,750 lb per two months” to “400 lb per day, or 1 landing per week of up to 1,500 lb, not to exceed 4,500 lb per two months” beginning on December 1, 2010 through the end of the year.

Sablefish DTL Fishery South of 36° N. Lat.

Catch of sablefish in the limited entry fixed gear and open access DTL fisheries south of 36° N. lat. has been higher than anticipated. In September, the Council recommended and NMFS implemented modest decreases to sablefish weekly limits in the limited entry fixed gear fishery, and more substantial decreases to the open access sablefish trip limits. The changes that went into effect on October 1, 2010 were anticipated to lower the projected impacts by approximately 45 percent and keep projected impacts within the sablefish OY south of 36° N. lat. Based on the most recent fishery information, if no additional action is taken and catch remains higher than expected, landings of sablefish through the end of the year would be 1,319 mt. This level of catch would exceed the 2010 sablefish OY for the area south of 36° N. lat. of 1,258 mt by approximately 5 percent. The Council considered several combinations of trip limit reductions in the limited entry fixed gear and open access sablefish DTL fisheries south of 36° N. lat. to allow some fishing opportunities to remain open in December 2010, while preventing the 2010 sablefish OY for the area south of 36° N. lat. from being exceeded. Options were somewhat more limited than in September 2010, because only a single month of fishing can be restricted in this late-season inseason action.

Sablefish landings from July through October 2010 indicate that sablefish catch were higher in these fisheries during July 2010 than estimated in September 2010. The Council considered several options for reducing the sablefish catch late in the season. The Council considered closing both the limited entry and open access fisheries for sablefish beginning on December 1, 2010 through the end of the year. However, the higher than anticipated catch of sablefish is primarily due to increased effort in the open access fishery. Because the participation in the open access fishery is not limited, it is more difficult to project and to control the harvest in that fishery. Therefore, the Council considered larger restrictions in the open access sablefish DTL fishery, including complete closure. Modest decreases were necessary for the limited entry fixed gear fishery to further reduce projected impacts and to prevent the 2010 sablefish OY from being exceeded. With the closure of the open access sablefish fishery and the limited entry fixed gear fishery trip limit reductions, projected impacts are not anticipated to exceed 2010 sablefish OY for the area south of 36° N. lat. of 1,258 mt.

West Coast Groundfish Observer data indicate that impacts to overfished species in the commercial fixed gear sablefish fisheries south of 36° N. lat. are extremely low. Therefore, decreases to trip limits to prevent exceeding the 2010 sablefish OY are not anticipated to result in changes to impacts to co-occurring overfished groundfish species.

Based on the considerations outlined above, the Council recommended and NMFS is implementing a decrease in the limited entry fixed gear sablefish DTL fishery cumulative limits south of 36° N. lat. from “2,800 lb per week” to “1,800 lb per week” beginning on December 1, 2010 through the end of the year.

Based on the considerations outlined above, the Council recommended and NMFS is implementing restrictions to the open access sablefish DTL fishery trip limits south of 36° N. lat. from “800 lb per week, not to exceed 1,600 lb per month” to “CLOSED” beginning on December 1, 2010 through the end of the year.

Tribal Fishery Management Measures

The Council considered a request from the Makah Tribe, a Washington State coastal treaty tribe, to increase the amount of yellowtail rockfish that would be available in the tribal fisheries for 2010. The Makah Tribe would like to test the use of electric jig machines in the midwater fishery to see if overfished species are encountered in an area before they set the midwater trawl net. These activities are anticipated to reduce bycatch rate of co-occurring overfished species, primarily widow rockfish and canary rockfish, in the midwater trawl fishery. Bycatch of widow rockfish has been higher than anticipated in the tribal midwater trawl fishery in 2010, and the Makah Tribe anticipates that, if testing is successful, the use of electric jigs could lower bycatch rates and increase access to yellowtail rockfish in the future. The Makah Tribe requested an additional 187 mt of yellowtail rockfish, from 490 mt to 677 mt, to allow the testing of the jig gear that may reduce bycatch of co-occurring overfished rockfish. In order to do the initial testing of the jig gear, some additional catch of widow rockfish and canary rockfish is anticipated. However, total impacts, when combined with those in other fisheries, are not anticipated to exceed the 2010 rebuilding OYs for these species.

Yellowtail rockfish north of 40°30′ N. lat. was assessed in 2005 and is a healthy stock. Yellowtail rockfish are underutilized because of fishing restrictions to protect co-occurring overfished species. The most recent fishery information indicates that less than 19 percent of the 2010 yellowtail OY in this area has been caught.

Based on the considerations outlined above, the Council recommended and NMFS is implementing an increase in the yellowtail rockfish catch limit for the Makah Tribe's midwater trawl fishery.

Classification

This final rule makes routine inseason adjustments to groundfish fishery management measures based on the best available information and is taken pursuant to the regulations implementing the Pacific Coast Groundfish FMP.

These actions are taken under the authority of 50 CFR 660.370(c) and are exempt from review under Executive Order 12866.

These inseason adjustments are taken under the authority of the Magnuson-Stevens Fishery Conservation and Management Act (Magnuson-Stevens Act), and are in accordance with 50 CFR part 660, the regulations implementing the FMP. These actions are based on the most recent data available. The aggregate data upon which these actions are based are available for public inspection at the Office of the Administrator, Northwest Region, NMFS, (see ADDRESSES) during business hours.

For the following reasons, NMFS finds good cause to waive prior public notice and comment on the revisions to groundfish management measures under 5 U.S.C. 553(b)(B) because notice and comment would be impracticable and contrary to the public interest. Also, for the same reasons, NMFS finds good cause to waive the 30-day delay in effectiveness pursuant to 5 U.S.C. 553(d)(3), so that this final rule may become effective as quickly as possible.

The recently available data upon which these recommendations were based was provided to the Council, and the Council made its recommendations, at its November 2-10, 2010, meeting in Costa Mesa, CA. The Council recommended that these changes be implemented by December 1, 2010 or as quickly as possible. There was not sufficient time after that meeting to draft this document and undergo proposed and final rulemaking before these actions need to be in effect. For the actions to be implemented in this final rule, affording the time necessary for prior notice and opportunity for public comment would prevent the Agency from managing fisheries using the best available science to approach, without exceeding, the OYs for federally managed species in accordance with the FMP and applicable laws. The adjustments to management measures in this document affect commercial fisheries off Washington, Oregon, and California and commercial tribal fisheries off Washington.

Because the new fishery information and analyses were available so late in the year, the options for restrictions to fishery management measures that would reduce darkblotched rockfish impacts are limited. However, the restrictions proposed for the last 4-5 weeks of the year in the limited entry non-whiting trawl fishery and the limited entry primary whiting fishery are anticipated to reduce the projected total impacts to darkblotched rockfish by approximately 46 mt. The adjustments to management measures in the limited entry trawl fishery north of 40°10′ N. lat. and to the primary whiting fishery must be implemented as soon as possible to limit the fishery during 2010 in order to reduce projected impacts to darkblotched rockfish to keep the total mortality very near, and probably below, the 2010 darkblotched rockfish OY. Reductions to cumulative limits in the limited entry fixed gear fishery and closure of the open access sablefish DTL fishery are needed to prevent the 2010 sablefish OY in the area south of 36° N. lat. from being exceeded. These changes must be implemented in a timely manner by December 1, 2010. Failure to implement trip limit restrictions by December 1, 2010 would risk continued higher than anticipated catch of sablefish and the fishery could exceed the 2010 sablefish OY in the area south of 36° N. lat. These revisions are needed to keep the harvest of groundfish species within the harvest levels established for 2010, while allowing fishermen access to healthy stocks. Without these measures in place, the fisheries could risk exceeding some 2010 OYs if catch continues to be higher than anticipated. Delaying these changes would keep management measures in place that are not based on the best available data and that could lead to exceeding OYs. Such delay would impair achievement of one of the Pacific Coast Groundfish FMP goals to prevent overfishing and rebuild overfished stocks.

The increases to cumulative limits in the limited entry fixed gear and open access sablefish DTL fishery north of 36° N. lat. allow fishermen an opportunity to achieve the allocations and 2010 OY for sablefish in that area. Changes to management measures in the Makah tribal midwater trawl fishery allow fishermen additional harvest opportunities for yellowtail rockfish, a healthy and underutilized stock. This also allows for testing of a fishing technique that could reduce bycatch rates as explained above. Increases are necessary to relieve a restriction by allowing fishermen increased opportunities to harvest sablefish north of 36° N. lat. and yellowtail rockfish, while staying within OYs. These changes must be implemented in a timely manner, as quickly as possible, so that fishermen are allowed increased opportunities to harvest available healthy stocks and meet the objective of the Pacific Coast Groundfish FMP to allow fisheries to approach, but not exceed, OYs. It would be contrary to the public interest to wait to implement these changes until after public notice and comment, because that would prevent fishermen from taking these fish at the time they are available, preventing additional harvest in fisheries that are important to coastal communities.

List of Subjects in 50 CFR Part 660

Fisheries, Fishing, Indian fisheries.

Dated: November 30, 2010.
Brian Parker,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq.

2. In § 660.50 to subpart C, paragraph (g)(5) is revised to read as follows:

§ 660.50 Pacific Coast treaty Indian fisheries.

* * * * *

(g) * * *

(5) Yellowtail and widow rockfish. The Makah Tribe will manage the midwater trawl fisheries as follows: Yellowtail rockfish taken in the directed tribal mid-water trawl fisheries are subject to a catch limit of 677 mt for the entire fleet. Landings of widow rockfish must not exceed 10 percent of the weight of yellowtail rockfish landed, for a given vessel, throughout the year. These limits may be adjusted by the tribe inseason to minimize the incidental catch of canary rockfish and widow rockfish, provided the catch of yellowtail rockfish does not exceed 677 mt for the fleet.

* * * * *

3. In § 660.131 to subpart D, paragraph (b)(5)(i) is revised to read as follows:

§ 660.131 Pacific whiting fishery management measures.

* * * * *

(b) * * *

(5) * * *

(i) The whiting fishery bycatch limit is apportioned among the sectors identified in paragraph (a) of this section based on the same percentages used to allocate whiting among the sectors, established in § 660.55(i)(2), subpart C. The sector specific bycatch limits are: For catcher/processors 4.8 mt of canary rockfish, 95 mt of widow rockfish, and 5.5 mt of darkblotched rockfish; for motherships 3.3 mt of canary rockfish, 67 mt of widow rockfish, and 5.5 mt of darkblotched rockfish; and for shorebased 5.9 mt of canary rockfish, 117 mt of widow rockfish, and 5.0 mt of darkblotched rockfish.

* * * * *

4. Table 1 (North) to part 660, subpart D, is revised to read as follows:

BILLING CODE 3510-22-P

5. Table 2 (North) and Table 2 (South) to part 660, subpart E, are revised to read as follows:

6. Table 3 (North) and Table 3 (South) to part 660, subpart F, are revised to read as follows:

BILLING CODE 3510-22-P

[FR Doc. 2010-30390 Filed 11-30-10; 4:15 pm]

BILLING CODE 3510-22-C